DEPARTMENT OF ENERGY

Federal Energy Regulatory Commission

[Docket No. RP00-468-003]

Texas Eastern Transmission, LP; Notice of Second Errata Filing

August 31, 2001.

Take notice that on August 24, 2001, Texas Eastern Transmission, LP (Texas Eastern) tendered for filing Second Substitute Original Sheet No. 648 and Second Substitute Original Sheet No. 649 to be included in Pro Forma Seventh Revised Volume No. 1 in lieu of tariff sheets previously filed on July 31, 2001, in compliance with Order No. 637, et seq., and in accordance with the Commission's suggestion in its June 12, 2001, letter order issued in Docket Nos. RP00-468-000 and RP01-25-000.

Texas Eastern states that on August 20, 2001 it submitted an errata filing to revise the scheduling and curtailment sequences for secondary transactions to include two additional potential transactions. Texas Eastern states that as a result of an inquiry from one of its customers it has identified the need for a further revision to the scheduling and curtailment sequences for secondary transactions to address transactions which are delivered at Secondary Delivery Points but received from Primary Receipt Points. Texas Eastern states that the second substitute tariff sheets are being submitted to further correct the scheduling and curtailment sequences.

Texas Eastern states that copies of the filing were mailed to all affected customers and interested state commissions.

Coinciding with the period granted by the Commission for Texas Eastern's July 31, 2001, compliance filing, interested parties will have until August 30, 2001, to submit comments regarding this filing. Texas Eastern has 20 days to respond to any comments received in response to this filing. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22493 Filed 9-6-01; 8:45 am]

BILLING CODE 6717-01-P